DEPARTMENT OF THE INTERIOR

Fish and Wildlife Service

[FWS-R9-IA-2012-N127: FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before June 22, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Snow Leopard Conservancy, Sonoma, CA; PRT-66148A

The applicant requests a permit to import hair samples from snow leopards (Uncia uncia) collected non-invasively from the wild for the purpose of enhancement of the survival of the species and scientific research. This notification covers activities to be conducted by the applicant over a 5-year period.

Applicant: Duke Lemur Center, Durham, NC; PRT-65708A

The applicant requests a permit to import biological samples from wild specimens of Crossley's dwarf lemur (Cheirogaleus crossleyi), Sibree's dwarf lemur (Cheirogaleus sibreei), fat-tailed dwarf lemur (Cheirogaleus medius), and brown mouse lemur (Microcebus rufus) for the purpose of enhancement of the survival of the species.

Applicant: University of Illinois, Urbana, IL; PRT-73881A

The applicant requests a permit to import biological samples from wild specimens of chimpanzee (Pan troglodytes) for the purpose of enhancement of the survival of the species.

Applicant: James Bruner, Comfort, TX; PRT-72932A

The applicant requests a captive-bred wildlife registration under 50 CFR 17.21(g) for the scimitar-horned oryx (Oryx dammah), addax (Addax nasomaculatus), and dama gazelle (Nanger dama) to enhance their propagation or survival. This notification covers activities to be conducted by the applicant over a 5-year period.

Applicant: James Bruner, Comfort, TX; PRT-72933A

The applicant requests a permit authorizing interstate and foreign commerce, export, and cull of excess scimitar-horned oryx (Oryx dammah), addax (Addax nasomaculatus), and dama gazelle (Nanger dama) from the captive herd maintained at their facility, for the purpose of enhancement of the survival of the species. This notification covers activities to be conducted by the applicant over a 5-year period.

Applicant: Carol Neunhoffer, Kerrville, TX; PRT-71497A

The applicant requests a captive-bred wildlife registration under 50 CFR 17.21(g) for the scimitar-horned oryx (Oryx dammah) to enhance their propagation or survival. This notification covers activities to be conducted by the applicant over a 5-year period.

Applicant: Carol Neunhoffer, Kerrville, TX; PRT-71496A

The applicant requests a permit authorizing interstate and foreign commerce, export, and cull of excess scimitar-horned oryx (Oryx dammah) from the captive herd maintained at their facility, for the purpose of enhancement of the survival of the species. This notification covers activities to be conducted by the applicant over a 5-year period.

Applicant: Randall Cupp, Desdemona, TX; PRT-70436A

The applicant requests a captive-bred wildlife registration under 50 CFR 17.21(g) for the scimitar-horned oryx (Oryx dammah) to enhance their propagation or survival. This notification covers activities to be conducted by the applicant over a 5-year period.

Applicant: Randall Cupp, Desdemona, TX; PRT-70438A

The applicant requests a permit authorizing interstate and foreign commerce, export, and cull of excess scimitar-horned oryx (Oryx dammah) from the captive herd maintained at their facility, for the purpose of enhancement of the survival of the species. This notification covers activities to be conducted by the applicant over a 5-year period.

Applicant: Selah Springs Ranch, Brady, TX; PRT-67084A

The applicant requests a captive-bred wildlife registration under 50 CFR 17.21(g) for the scimitar-horned oryx (Oryx dammah) to enhance their propagation or survival. This notification covers activities to be conducted by the applicant over a 5-year period.

Applicant: Selah Springs Ranch, Brady, TX; PRT-67083A

The applicant requests a permit authorizing interstate and foreign commerce, export, and cull of excess scimitar-horned oryx (Oryx dammah) from the captive herd maintained at their facility, for the purpose of enhancement of the survival of the species. This notification covers activities to be conducted by the applicant over a 5-year period.

Applicant: JX2, LLC, Colorado City, TX; PRT-69145A

The applicant requests a captive-bred wildlife registration under 50 CFR 17.21(g) for the scimitar-horned oryx (Oryx dammah) and addax (Addax nasomaculatus), to enhance their propagation or survival. This notification covers activities to be conducted by the applicant over a 5-year period.

Applicant: JX2, LLC, Colorado City, TX; PRT-70234A

The applicant requests a permit authorizing interstate and foreign commerce, export, and cull of excess scimitar-horned oryx (Oryx dammah) and addax (Addax nasomaculatus), from the captive herd maintained at their facility, for the purpose of enhancement of the survival of the species. This notification covers activities to be conducted by the applicant over a 5-year period.

Applicant: DMK Ranching, Junction, TX; PRT-71317A

The applicant requests a captive-bred wildlife registration under 50 CFR 17.21(g) for the scimitar-horned oryx (Oryx dammah) to enhance their propagation or survival. This notification covers activities to be conducted by the applicant over a 5-year period.

Applicant: DMK Ranching, Junction, TX; PRT-71316A

The applicant requests a permit authorizing interstate and foreign commerce, export, and cull of excess scimitar-horned oryx (Oryx dammah) from the captive herd maintained at their facility, for the purpose of enhancement of the survival of the species. This notification covers activities to be conducted by the applicant over a 5-year period.

Applicant: Brad Blevins, Edmond, OK; 804095

The applicant requests renewal of their captive-bred wildlife registration under 50 CFR 17.21(g) for the radiated tortoise (Astrochelys radiata) and Galapagos tortoise (Chelonoidis nigra) to enhance their propagation or survival. This notification covers activities to be conducted by the applicant over a 5-year period.

Applicant: Twisted Oaks Ranch, LLC, Hallettsville, TX; PRT-73610A

The applicant requests a captive-bred wildlife registration under 50 CFR 17.21(g) for the scimitar-horned oryx (Oryx dammah), addax (Addax nasomaculatus), and dama gazelle (Nanger dama) to enhance their propagation or survival. This notification covers activities to be conducted by the applicant over a 5-year period.

Applicant: Twisted Oaks Ranch, LLC, Hallettsville, TX; PRT-73612A

The applicant requests a permit authorizing interstate and foreign commerce, export, and cull of excess scimitar-horned oryx (Oryx dammah) from the captive herd maintained at their facility, for the purpose of enhancement of the survival of the species. This notification covers activities to be conducted by the applicant over a 5-year period.

Applicant: Frank Deel, Kaufman, TX; PRT-73856A

The applicant requests a captive-bred wildlife registration under 50 CFR 17.21(g) for the barasingha (Rucervus duvaucelii) and scimitar-horned oryx (Oryx dammah) to enhance their propagation or survival. This notification covers activities to be conducted by the applicant over a 5-year period.

Applicant: Frank Deel, Kaufman, TX; PRT-73857A

The applicant requests a permit authorizing interstate and foreign commerce, export, and cull of excess barasingha (Rucervus duvaucelii) and scimitar-horned oryx (Oryx dammah) from the captive herd maintained at their facility, for the purpose of enhancement of the survival of the species. This notification covers activities to be conducted by the applicant over a 5-year period.

Applicant: Columbus Zoo and Aquarium, Powell, OH; PRT-690989

The applicant requests renewal of their captive-bred wildlife registration under 50 CFR 17.21(g) for the following families, genus, and species, to enhance their propagation or survival. This notification covers activities to be conducted by the applicant over a 5-year period.

Families:

Bovidae

Bradypodidae

Camelidae

Cebidae

Cercopithecidae

Cervidae

Dasyuridae

Equidae

Felidae (does not include jaguar, margay or ocelot)

Hominidae

Hyaenidae

Hylobatidae

Lemuridae

Macropodidae

Rhinocerotidae

Sciuridae

Solenodontidae

Tapiridae

Ursidae

Rheidae

Species:

Asian elephant (Elephas maximus)

Koala (Phascolarctos cinereus)

brush-tailed rat kangaroo (Bettongia penicillata)

Komodo monitor (Varanus komodoensis)

Applicant: Carson Springs Wildlife Conservation Foundation, Gainesville, FL; PRT-56870A

The applicant requests amendment of their captive-bred wildlife registration under 50 CFR 17.21(g) to include Grevy's zebra (Equus grevyi), scimitar-horned oryx (Oryx dammah), addax (Addax nasomaculatus), dama gazelle (Nanger dama), and red lechwe (Kobus leche) to enhance their propagation or survival. This notification covers activities to be conducted by the applicant over a 5-year period.

Applicant: Richard Noble, Sheridan, OR; PRT-750150

The applicant requests renewal of their captive-bred wildlife registration under 50 CFR 17.21(g) for the mhorr gazelle (Gazella dama mhorr), slender-horned gazelle (Gazella leptoceros), and bontebok (Damaliscus pygargas pygargus) to enhance their propagation or survival. This notification covers activities to be conducted by the applicant over a 5-year period.

Applicant: Center for Conservation of Tropical Ungulates, Punta Gorda, FL; PRT-018969

The applicant requests renewal of their captive-bred wildlife registration under 50 CFR 17.21(g) for the following families, genus, and species, to enhance their propagation or survival. This notification covers activities to be conducted by the applicant over a 5-year period.

Families:

Bovidae

Rhinocerotidae

Tapiridae

Species:

Buru Babirusa (Babyrousa babyrussa)

Galapagos tortoise (Chelonoides nigra)

Applicant: Sharbutt Land & Cattle, Cross Cut, TX; PRT-71664A

The applicant requests a captive-bred wildlife registration under 50 CFR 17.21(g) for the scimitar-horned oryx (Oryx dammah) to enhance their propagation or survival. This notification covers activities to be conducted by the applicant over a 5-year period.

Applicant: University of South Carolina, Columbia, SC; PRT-73008A

The applicant requests a permit to import biological specimens collected from nesting female hawksbill sea turtles (Eretmochelys imbricata) on or near Long Island, Antigua, for the purpose of scientific research. This notification covers activities to be conducted by the applicant over a 1-year period.

Applicant: American Museum of Natural History, New York, NY; PRT-761887

The applicant requests a renewal of their permit to export and re-import non-living museum specimens of endangered and threatened species previously accessioned into the applicant's collection for scientific research. This notification covers activities to be conducted by the applicant over a 5-year period.

Applicant: Dana Kirk, Kerrville, TX; PRT-73864A

The applicant requests a permit to import a sport-hunted trophy of one male bontebok (Damaliscus pygargus pygargus) culled from a captive herd maintained under the management program of the Republic of South Africa, for the purpose of enhancement of the survival of the species.

Brenda Tapia,
Program Analyst/Data Administrator, Branch of Permits, Division of Management Authority.

[FR Doc. 2012-12481 Filed 5-22-12; 8:45 am]

BILLING CODE 4310-55-P